DEPARTMENT OF AGRICULTURE

Forest Service

Proposed 3 Basins Timber Sale; Caribou-Targhee National Forest, Bear Lake and Caribou Counties, Idaho

AGENCY: USDA Forest Service.

ACTION: Notice of intent to prepare Environmental Impact Statement.

SUMMARY: The USDA Forest Service will prepare an Environmental Impact Statement to document the analysis and disclose the environmental impacts of proposed actions of harvesting timber, constructing, reconstruction, and obliterating roads, and regenerating new stands of trees in the Cheatbeck Basin, Middle Cheatbeck Basin and South Cheatbeck Basin areas of the Caribou National Forest in bear Lake and Caribou counties of Idaho. The proposed project is located within the following legal description:

Township 10 South Range 41 East, Sections 35 and 36

Township 11 South Range 41 East, Sections 1, 2, 11, 12 and 13

Township 11 South Range 42 East, Sections 7 and 18, Boise Meridian.

Implementing regeneration harvests on timbered sands will provide an Allowable Sale Quantity of sawlogs to industry. The proposed action will aid in moving timbered stands towards the desired future conditions (DFC) for lodgepole pine and aspen/conifer by simulating natural patch sizes and shapes, enhancing and maintaining aspen, and improving stand structure and composition on suitable timberlands within the greater Cheatbeck Basin area.

Montpelier Ranger District of the Caribou-Targhee National Forest proposes to mechanically harvest timber from approximately 590 acres, of this approximately 80 acres is within the Soda Peak Roadless Area #04171. The Revised Forest Plan (RFP) for the Caribou National Forest (February 2003) has assigned a prescription of 5.2-forest vegetation management, to all of the acreage proposed for treatment. This prescription emphasizes wood-fiber production, timber growth and yield while maintaining or restoring forested ecosystem processes and functions (RFP 4-71). Mechanical harvest will be accomplished by clearcutting and leaving reserve islands and groups of trees to simulate the patterns of a mixed severity fire, and to serve as the seed source for natural regeneration. All acreages, following harvest, will be broadcast burned to reduce the fuel loading and to accomplish site preparation for natural regeneration. The size of some of the proposed clearcuts will exceed the 40-acre maximum and are contingent upon Regional Forester approval.

In addition, the use of prescribed fire for aspen restoration, without pretreatment by logging, is proposed on approximately 118 acres of aspen/conifer within Soda Peak Roadless area.

Proposed, new road construction, in non-roadless areas, totals approximately 0.8 miles. Total temporary road construction is estimated to be 1.4 miles of which 1.1 miles is in non-roadless areas, with an estimated 0.3 miles of temporary new road construction in the Soda Peak Roadless Area. A total of approximately 0.8 miles of road obliteration is proposed as well. No net increase in motorized travel miles is proposed. Two potential haul routes, totaling approximately 17.0 miles will also be analyzed.

The issues identified during scoping and the analysis process will determine alternatives to the proposed action. The no action alternative will be analyzed as well.

DATES: Written comments concerning the scope of the analysis described in this Notice should be received within 30 days of the date of publication of this Notice in the Federal Register. No meetings are planned at this time. Information received will be used in preparation of the draft EIS and final EIS.

ADDRESSES: Send written comments to the Caribou-Targhee National Forest, Montpelier Ranger District, 322 North 4th Street, Montpelier, ID 83254.

FOR FURTHER INFORMATION CONTACT: Questions concerning the proposed action and EIS should be directed to Ken Klingenberg, Caribou-Targhee National Forest, Montpelier Ranger District, 322 North 4th Street, Montpelier, ID 83254. [Telephone; (208) 847-0375.]

SUPPLEMENTARY INFORMATION: The Forest Service is seeking information and comments from Federal, State, and local agencies, as well as individuals and organizations that may be interested in, or affected by, the proposed action. The Forest Service invites written comments and suggestions on the issues related to the proposal and the area being analyzed.

Information received will be used in preparation of the draft EIS and final EIS. For the most effective use, comments should be submitted to the Forest Service within 30 days from the date of publication of this notice in the Federal Register.

The Responsible Official is Jerry B. Reese, Forest Supervisor, Caribou-Targhee National Forest, 1405 Hollipark Dr., Idaho Falls, ID 83401.

The decision to be made is: Whether to continue the present course of action (the no action alternative) or to implement the proposed action with applicable mitigation measures, or to implement an alternative to the proposed action with its applicable mitigation measures.

The tentative date for filing the Draft EIS is June 1, 2004. The comment period on the draft environmental impact statement will be open for 45 days from the date of the Environmental Protection Agency publishes the notice of availability in the Federal Register.

The Forest Service believes, at this early stage, it is important to give reviewers notice of several court rulings related to public participation in the environmental review process. First, reviewers of draft EIS's must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986), and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS. To assist the Forest Service in identifying and considering issues and concerns on the proposed action, comments on the draft EIS should be as specific as possible. It is also helpful if comments refer to specific pages or chapter of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only limited circumstances, such as to protect trade secrets. The Forest Service will inform the requestor of the agency's decision regarding the request for confidentiality, and where the request is denied, the agency will return the submission and notify the requester that the comments may be resubmitted with or without name and address within 10 days.

Dated: February 6, 2004.
Jerry B. Reese,
Forest Supervisor, Caribou-Targhee National Forest, Intermountain Region, USDA Forest Service.

[FR Doc. 04-3154 Filed 2-12-04; 8:45 am]

BILLING CODE 3410-11-M